DEPARTMENT OF HEALTH AND HUMAN SERVICES

Centers for Disease Control and Prevention

[Program Announcement 02175]

Disease, Disability, and Injury Prevention and Control Special Emphasis Panel: Applied Research on Antimicrobial Resistance : Validation of National Committee for Clinical Laboratory Standards Breakpoints for Human Pathogens of Public Health Importance

In accordance with section 10(a)(2) of the Federal Advisory Committee Act (Pub. L. 92-463), the Centers for Disease Control and Prevention (CDC) announces the following meeting:

Name: Disease, Disability, and Injury Prevention and Control Special Emphasis Panel (SEP): Applied Research on Antimicrobial Resistance (AR): Validation of National Committee for Clinical Laboratory Standards (NCCLS) Breakpoints for Human Pathogens of Public Health Importance, PA 02175

Times And Date:8:30 a.m.-9 a.m., August 22, 2002 (Open); 9:15 a.m.-12:00 p.m., August 22, 2002 (Closed).

Place: Atlanta Airport Hilton, 1031 Virginia Avenue, Atlanta, GA 30354.

Status: Portions of the meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to PA 02175.

Contact Person for More Information: Marsha A. Jones, Health Scientist, National Center for Infectious Diseases, CDC, 1600 Clifton Road, NE, MS C-12, Atlanta, Georgia 30333, 404-639-2603, e-mail: maj4@cdc.gov.

The Director, Management Analysis and Services Office has been delegated the authority to sign Federal Register notices pertaining to announcements of meetings and other committee management activities, for both the Centers for Disease Control and Prevention and the Agency for Toxic Substances and Disease Registry.

Dated: July 29, 2002.
John Burckhardt,
Acting Director, Management Analysis and Services Office.

[FR Doc. 02-19511 Filed 8-1-02; 8:45 am]

BILLING CODE 4163-18-P